DEFENSE NUCLEAR FACILITIES SAFETY BOARD

10 CFR Part 1709

[Docket No. DNFSB-2023-01]

Debt Collection Procedures

AGENCY: Defense Nuclear Facilities Safety Board.

ACTION: Direct final rule; confirmation of effective date.

SUMMARY: The Defense Nuclear Facilities Safety Board (DNFSB) is confirming the effective date of October 10, 2023, for the direct final rule that was published in the Federal Register on July 11, 2023.

DATES: The effective date of October 10, 2023, for the direct final rule published on July 11, 2023, (88 FR 44031), is confirmed.

ADDRESSES: DNFSB's General Counsel web page: Go to https://www.dnfsb.gov/office-general-counsel and click “Federal Register Notices” to access publicly available information related to this rulemaking.

FOR FURTHER INFORMATION CONTACT: Patricia A. Hargrave, Associate General Counsel, Defense Nuclear Facilities Safety Board, 625 Indiana Avenue NW, Suite 700, Washington, DC 20004-2901, (202) 694-7000.

SUPPLEMENTARY INFORMATION: On August 30, 2021 (88 FR 44031), the DNFSB published a direct final rule to implement the Debt Collection Act (DCA), as amended, 31 U.S.C. 3701, et seq. The DCA governs the federal government's debt collection activities. In accordance with this law, the Treasury Department and the Department of Justice jointly promulgated Federal Claims Collection Standards (FCCS), 31 CFR parts 900 through 904. Agencies may adopt the FCCS without change or may prescribe agency regulations for collecting debts by administrative offset that are consistent with the FCCS. 31 U.S.C. 3716. These regulations are required before an agency may collect a debt by administrative offset.

In the direct final rule, the DNFSB stated that, if no significant adverse comments were received, the direct final rule would become effective on October 11, 2023. The DNFSB received one comment. The DNFSB evaluated the comment against the criteria described in the direct final rule and determined that the comment was not significant and adverse. Specifically, the commentator stated that the rule would be “great” due to “the added measure of structure and accountability that will result from this rule.” The comment was positive and supportive. The direct final rule will become effective as scheduled.

Dated: September 7, 2023.
Joyce Connery,
Chair.

[FR Doc. 2023-19718 Filed 9-18-23; 8:45 am]

BILLING CODE 3670-01-P